DEPARTMENT OF JUSTICE

Notice of Lodging of Consent Decree Under Comprehensive Environmental Response, Compensation and Liability Act

Notice is hereby given that on June 15, 2007, a proposed Consent Decree in United States v. Beehive Barrel and Drum, Inc. d/b/a Cascade Cooperage, Inc. (D. Utah), C.A. No. 2:04-CV-00570 (TC), was lodged with the United States District Court for the District of Utah, Central Division.

In this action, the United States seeks response costs incurred and to be incurred by the Environmental Protection Agency (“EPA”), pursuant to Section 107 of the Comprehensive Environmental Response, Compensation and Liability Act, as amended (“CERCLA”), 42 U.S.C. 9607, in connection with the Service First Barrel and Drum Site, located in Salt Lake City, Utah. The United States also seeks punitive damages for non-compliance with a unilateral administrative order issued to the Estate of Stanley Pope and Stanco Enterprises, L.C. pursuant to Sections 106(b) and 107(c)(3) of CERCLA, 42 U.S.C. 9606(b), 9607(c)(3), and civil penalties for Bryan Pope's and S.R.P. Gifting Trust's failure to answer EPA's information requests pursuant to Section 104(e) of CERCLA, 42 U.S.C. 9604(e). Defendants Estate of Stanley Pope, Bryan Pope, S.R.P. Gifting Trust and Stanco Enterprises have resolved the United States' response cost claims, punitive damages claims and civil penalties claims through this Consent Decree.

The settlement is based on a documented inability-to-pay analysis. Based upon the analysis, EPA determined that the Rossomondo Defendants had the financial ability to pay the proceeds from a sale of the Diatect Stock owned by the Estate to reimburse EPA for the EPA's response costs that were incurred in connection with the clean-up of the Site. Defendants Estate of Stanley Pope and Stanco Enterprises, L.C. will pay $2,500 in punitive damages to settle their liability for failure to comply with a unilateral order. Defendants Bryan Pope and S.R.P. Gifting Trust will pay $7,500 in civil penalties for failure to respond to EPA's information requests.

The Department of Justice will receive, for a period of 30 days from the date of this publication, comments relating to the proposed Consent Decree. Comments should be addressed to the Assistant Attorney General for the Environment and Natural Resources Division, and either e-mailed to pubcomment-ees.enrd@usdoj.gov or mailed to P.O. Box 7611, U.S. Department of Justice, Washington, DC 20044-7611, and should refer to United States v. Beehive Barrel and Drum, Inc. d/b/a Cascade Cooperage, Inc., DOJ Ref. No. 90-11-3-08170.

The proposed Consent Decree may be examined at the Office of the United States Attorney, 185 South State, Ste. 400, Salt Lake City, Utah 84111; and U.S. EPA Region 8, 1595 Wynkoop Street, Denver, Colorado 80202. During the public comment period, the proposed Consent Decree may also be examined on the following Department of Justice Web site, http://www.usdoj.gov/enrd/Consent_Decree.html. A copy of the proposed Consent Decree may be obtained by mail from the Consent Decree Library, P.O. Box 7611, U.S. Department of Justice, Washington, DC 20044-7611 or by faxing or e-mailing a request to Tonia Fleetwood (tonia.fleetwood@usdoj.gov), fax number (202) 514-0097, phone confirmation number (202) 514-1547. In requesting a copy of the Consent Decree from the Consent Decree Library, please enclose a check in the amount of $6.75 (25 cents per page reproduction costs), payable to the U.S. Treasury.

Robert D. Brook,
Assistant Section Chief, Environmental Enforcement Section, Environment and Natural Resources Division.

[FR Doc. 07-3147 Filed 6-26-07; 8:45 am]

BILLING CODE 4410-15-M